DEPARTMENT OF TRANSPORTATION

Federal Aviation Administration

14 CFR Part 71

[Docket No. FAA-2016-9559; Airspace Docket No. 16-ACE-11]

RIN 2120-AA66

Amendment of Class D and E Airspace for the Following Missouri Towns; Cape Girardeau, MO; St. Louis, MO; and Macon, MO

AGENCY: Federal Aviation Administration (FAA), DOT.

ACTION: Final rule, correction.

SUMMARY: This action corrects the final rule published in the Federal Register on February 9, 2018, modifying Class D airspace at Spirit of St. Louis Airport, St. Louis, MO; Class E airspace designated as a surface area at Cape Girardeau Regional Airport, Cape Girardeau, MO, and Spirit of St. Louis Airport; Class E airspace designated as an extension at Cape Girardeau Regional Airport; and Class E airspace extending upward from 700 feet above the surface at Cape Girardeau Regional Airport, Spirit of St. Louis Airport, and Macon-Fower Memorial Airport, Macon, MO. A typographical error was made in the geographic coordinates for the St. Louis Lambert International Runway 30L Localizer listed in the legal description of the Class E airspace extending upward from 700 feet above the surface for St. Louis, MO.

DATES: Effective date 0901 UTC, May 24, 2018.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (83 FR 5707; February 9, 2018) for Docket No. FAA-2016-9559 modifying Class D airspace at Spirit of St. Louis Airport, St. Louis, MO; Class E airspace designated as a surface area at Cape Girardeau Regional Airport, Cape Girardeau, MO, and Spirit of St. Louis Airport; Class E airspace designated as an extension at Cape Girardeau Regional Airport; and Class E airspace extending upward from 700 feet above the surface at Cape Girardeau Regional Airport, Spirit of St. Louis Airport, and Macon-Fower Memorial Airport, Macon, MO. A typographical error was made in the geographic coordinates for the St. Louis Lambert International Runway 30L Localizer listed in the legal description of Class E airspace extending upward from 700 feet above the surface for St. Louis, MO. This action corrects this error.

Correction to Final Rule

Accordingly, pursuant to the authority delegated to me, in the Federal Register of February 9, 2018 (83 FR 5707) FR Doc. 2018-02139, Amendment of Class D and E Airspace for the Following Missouri Towns; Cape Girardeau, MO; St. Louis, MO; and Macon, MO, is corrected as follows:

§ 71.1 [Amended]

ACE MO E5 St. Louis, MO [Corrected]

On page 5710, column 2, line 38, remove (lat. 38°45′44″ N, long. 90°22′56″ W) and add in its place (lat. 38°45′19″ N, long. 90°22′56″ W).

Issued in Fort Worth, Texas, on April 2, 2018.
Christopher L. Southerland,
Acting Manager, Operations Support Group, ATO Central Service Center.

[FR Doc. 2018-07100 Filed 4-6-18; 8:45 am]

BILLING CODE 4910-13-P